CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Peer Reviewer Application Instructions for review and approval in accordance with the Paperwork Reduction Act of 1995, Public Law 104-13, (44 U.S.C. Chapter 35). Copies of this ICR, with applicable supporting documentation, may be obtained by calling the Corporation for National and Community Service, Vielka Garibaldi, at (202) 606-6886 or email to vgaribaldi@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day notice requesting public comment was published in the Federal Register on May 30, 2013. This comment period ended July 30, 2013. CNCS received no responsive comments to the 60-day notice.

Description: CNCS seeks to renew the current information collection. Minor revisions are proposed to clarify eGrants instructions and reflect adjustments to the Corporation for National and Community Service eGrants system. The information collection will otherwise be used in the same manner as the existing application. CNCS also seeks to continue using the current application until the revised application is approved by OMB. The current application is due to expire on September 30, 2013.

Type of Review: Renewal.

Agency: Corporation for National and Community Service.

Title: Peer Reviewer Application Instructions.

OMB Number: 3045-0090.

Agency Number: None.

Affected Public: Individuals who are interested in serving as peer reviewers and peer review panel coordinators for CNCS.

Total Respondents: 2,000.

Frequency: One time to complete.

Average Time Per Response: Averages 40 minutes.

Estimated Total Burden Hours: 1,333 hours.

Total Burden Cost (capital/startup): None.

Total Burden Cost (operating/maintenance): None.

Dated: August 8, 2013.
Vielka Garibaldi,
Director, Office of Grants Policy and Operations.

[FR Doc. 2013-19792 Filed 8-14-13; 8:45 am]

BILLING CODE 6050-28-P